DEPARTMENT OF TRANSPORTATION

Federal Aviation Administration

14 CFR Part 73

[Docket No. FAA-2023-2220; Airspace Docket No. 23-AWP-59]

RIN 2120-AA66

Amendment of Restricted Area R-2512 Holtville, CA; Correction

AGENCY: Federal Aviation Administration (FAA), Department of Transportation (DOT).

ACTION: Final rule; correction.

SUMMARY: This action corrects a final rule that published in the Federal Register on November 16, 2023, that amends restricted area R-2512 in the vicinity of Holtville, CA. This action corrects a typographical error in that rule stating that incorrect section would be amended.

DATES: Effective date 0901 UTC, January 25, 2024.

ADDRESSES: A copy of the notice of proposed rulemaking (NPRM), all comments received, the final rule, this final rule correction, and all background material may be viewed online at www.regulations.gov using the FAA Docket number. Electronic retrieval help and guidelines are available on the website. It is available 24 hours each day, 365 days each year.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule in the Federal Register for Docket No. FAA-2023-2220 (88 FR 78636; November 16, 2023), that amended restricted area R-2512 in the vicinity of Holtville, CA. The section of 14 CFR part 73 to be amended by the final rule was incorrectly stated as § 73.22. The correct section of 14 CFR part 73 to be amended is § 73.25. This rule corrects this typographical error.

Correction to Final Rule

In FR Doc. 2023-25347, appearing on page 78636, as published in the Federal Register of November 16, 2023, the FAA makes the following correction:

1. On page 78637, in the second column, correct amendatory instruction 2 and the accompanying text to read as follows:

§ 73.25 [Amended]

2. Section 73.25 is amended as follows:

* * * * *

R-2512 Holtville, CA [Amended]

Boundaries. Beginning at lat. 33°05′00″ N, long. 115°17′33″ W; to lat. 33°00′00″ N, long. 115°13′33″ W; to lat. 32°51′00″ N, long. 115°05′33″ W; to lat. 32°51′00″ N, long. 115°17′03″ W; to lat. 32°58′00″ N, long. 115°17′33″ W; to lat. 33°05′00″ N, long. 115°20′03″ W; to the point of beginning.

Designated altitudes. Surface to 23,000 feet MSL.

Time of designation. 0600-2300 local time daily; other times by NOTAM 24 hours in advance.

Controlling agency. FAA, Los Angeles ARTCC.

Using Agency. U.S. Marine Corps, Commanding Officer, Marine Corps Air Station Yuma, Yuma, AZ.

* * * * *

Issued in Washington, DC, on January 11, 2024.
Frank Lias,
Manager, Airspace Rules and Regulations.

[FR Doc. 2024-00805 Filed 1-16-24; 8:45 am]

BILLING CODE 4910-13-P